DEPARTMENT OF ENERGY

Federal Energy Regulatory Commission

Combined Notice of Filings

Take notice that the Commission has received the following Natural Gas Pipeline Rate and Refund Report filings:

Filings Instituting Proceedings

Docket Numbers: RP22-881-000.

Applicants: Texas Eastern Transmission, LP.

Description: Compliance filing: TETLP OFO April 2022 Penalty Disbursement Report to be effective N/A.

Filed Date: 4/29/22.

Accession Number: 20220429-5147.

Comment Date: 5 p.m. ET 5/11/22.

Docket Numbers: RP22-882-000.

Applicants: Gulf South Pipeline Company, LLC.

Description: § 4(d) Rate Filing: Cap Rel Neg Rate Agmt (Southern 49811 to Spotlight 55299) to be effective 5/1/2022.

Filed Date: 4/29/22.

Accession Number: 20220429-5170.

Comment Date: 5 p.m. ET 5/11/22.

Docket Numbers: RP22-883-000.

Applicants: Gulf South Pipeline Company, LLC.

Description: § 4(d) Rate Filing: Cap Rel Neg Rate Agmt (FPL 41619 to Eco-Energy 55311) to be effective 5/1/2022.

Filed Date: 4/29/22.

Accession Number: 20220429-5171.

Comment Date: 5 p.m. ET 5/11/22.

Docket Numbers: RP22-884-000.

Applicants: Gulfstream Natural Gas System, L.L.C.

Description: § 4(d) Rate Filing: 2022 GNGS TUP/SBA Annual Filing to be effective 6/1/2022.

Filed Date: 4/29/22.

Accession Number: 20220429-5176.

Comment Date: 5 p.m. ET 5/11/22.

Docket Numbers: RP22-885-000.

Applicants: Gulf South Pipeline Company, LLC.

Description: § 4(d) Rate Filing: Cap Rel Neg Rate Agmt (Osaka 46428 to Uniper 55304, Sequent 55312) to be effective 5/1/2022.

Filed Date: 4/29/22.

Accession Number: 20220429-5177.

Comment Date: 5 p.m. ET 5/11/22.

Docket Numbers: RP22-886-000.

Applicants: Southern Star Central Gas Pipeline, Inc.

Description: § 4(d) Rate Filing: Vol. 2-Neg and Conforming Rate Agreements—Tenaska PLS to be effective 5/1/2022.

Filed Date: 4/29/22.

Accession Number: 20220429-5230.

Comment Date: 5 p.m. ET 5/11/22.

Docket Numbers: RP22-887-000.

Applicants: Enable Mississippi River Transmission, LLC.

Description: § 4(d) Rate Filing: Negotiated Rate Filing (Non-Conforming)—US Steel 5.1.2022 to be effective 5/1/2022.

Filed Date: 4/29/22.

Accession Number: 20220429-5247.

Comment Date: 5 p.m. ET 5/11/22.

Docket Numbers: RP22-889-000.

Applicants: Transcontinental Gas Pipe Line Company, LLC.

Description: § 4(d) Rate Filing: Negotiated Rates—Leidy South—IT—Fuel Balancing—Seneca to be effective 5/1/2022.

Filed Date: 4/29/22.

Accession Number: 20220429-5264.

Comment Date: 5 p.m. ET 5/11/22.

Docket Numbers: RP22-890-000.

Applicants: El Paso Natural Gas Company, L.L.C.

Description: § 4(d) Rate Filing: Negotiated Rate Agreement (Eco Energy #617531-FT1EPNG) to be effective 5/1/2022.

Filed Date: 4/29/22.

Accession Number: 20220429-5289.

Comment Date: 5 p.m. ET 5/11/22.

Docket Numbers: RP22-891-000.

Applicants: Discovery Gas Transmission LLC.

Description: § 4(d) Rate Filing: Discovery Gas Transmission LLC's Negotiated Rates Filing to be effective 5/1/2022.

Filed Date: 4/29/22.

Accession Number: 20220429-5313.

Comment Date: 5 p.m. ET 5/11/22.

Docket Numbers: RP22-893-000.

Applicants: Equitrans, L.P.

Description: § 4(d) Rate Filing: Negotiated Rate Capacity Release Agreements—5/1/2022 to be effective 5/1/2022.

Filed Date: 5/2/22.

Accession Number: 20220502-5030.

Comment Date: 5 p.m. ET 5/16/22.

Docket Numbers: RP22-896-000.

Applicants: Enable Gas Transmission, LLC.

Description: § 4(d) Rate Filing: Negotiated Rate Filing—May 1 2022 CERC LA to be effective 5/1/2022.

Filed Date: 5/2/22.

Accession Number: 20220502-5057.

Comment Date: 5 p.m. ET 5/16/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2022.
Debbie-Anne A. Reese,
Deputy Secretary.

[FR Doc. 2022-09768 Filed 5-5-22; 8:45 am]

BILLING CODE 6717-01-P